DEPARTMENT OF COMMERCE

National Oceanic and Atompsheric Administration

Availability of Seats for the Hawaiian Islands Humpback Whale National Marine Sanctuary Advisory Council

AGENCY: National Marine Sanctuary Program (NMSP), National Ocean Service (NOS), National Oceanic and Atmospheric Administration (NOAA), Department of Commerce (DOC).

ACTION: Extension of application deadline.

SUMMARY: The Hawaiian Islands Humpback Whale National Marine Sanctuary (HIHMWNMS) is extending the deadline for applications for both primary and alternate members of the following seats on its Sanctuary Advisory Council (Council): Education, Fishing, Hawaii County, Honolulu County, Kauai County, Maui County, Native Hawaiian, and Research. The original notice was published on August 10, 2005, (Volume 70, Number 153) [Notices] [Page 46492].

DATES: Applications are due by November 15, 2005.

ADDRESSES: Application packets may be obtained from Keeley Belva (888) 55-WHALE or via e-mail at: Keeley. Belva@noaa.gov. Applications are also available on line at http://hawaiihumpbackwhale.noaa.gov. Completed applications should be mailed to Keeley Belva, Hawaiian Islands Humpback Whale National Marine Sanctuary, 6600 Kalaniana'ole Highway, Suite 301, Honolulu Hawai'i 96825, faxed to (808) 397-2650, or returned via e-mail.

FOR FURTHER INFORMATION CONTACT: Keeley Belva (see above for contact information).

Authority: 16 U.S.C. Section 1431 et seq.

(Federal Domestic Assistance Catalog Number 11.429 Marine Sanctuary Program)
Dated: October 19, 2005.
Daniel J. Basta,
Director, National Marine Sanctuary Program, National Ocean Service, National Oceanic and Atmospheric Administration.

[FR Doc. 05-21441 Filed 10-26-05; 8:45 am]

BILLING CODE 3510-NK-M